DEPARTMENT OF COMMERCE

International Trade Administration

[A-351-832]

Notice of Extension of Final Results of Antidumping Duty Administrative Review: Carbon and Certain Alloy Steel Wire Rod From Brazil

AGENCY: Import Administration, International Trade Administration, Department of Commerce.

EFFECTIVE DATE: March 14, 2005.

FOR FURTHER INFORMATION CONTACT: Constance Handley or David Neubacher, at (202) 482-0631 or (202) 482-5823, respectively; AD/CVD Operations, Office 1, Import Administration, International Trade Administration, U.S. Department of Commerce, 14th Street & Constitution Avenue, NW., Washington, DC 20230.

Statutory Time Limits

Section 751(a)(3)(A) of the Tariff Act of 1930, as amended (the Act), requires the Department to issue (1) the preliminary results of a review within 245 days after the last day of the month in which occurs the anniversary of the date of publication of an order or finding for which a review is requested, and (2) the final results within 120 days after the date on which the preliminary results are published. However, if it is not practicable to complete the review within that time period, section 751(a)(3)(A) of the Act allows the Department to extend the time limit for the preliminary results to a maximum of 365 days and the final results to a maximum of 180 days (or 300 days if the Department does not extend the time limit for the preliminary results) from the date of the publication of the preliminary results. See also 19 CFR 351.213(h)(2).

Extension of Final Results of Reviews

We determine that it is not practicable to complete the final results of this review within the original time limits. Due to the complexity of issues present in this administrative review, such as the issues of affiliation and adverse facts available, the Department needs more time to address these items and evaluate the issues more thoroughly. The Department also needs more time to address issues raised in the formal scope inquiry that was initiated in conjunction with the administrative review on the exclusion of Grade 1080 Tire Cord Quality Wire Rod and Tire Bead Quality Wire Rod. Therefore, we are extending the deadline for the final results of the above-referenced review by 60 days. This 60-day extension of the final results falls on Saturday, May 7, 2005; therefore, the final results will be issued no later than the first business day thereafter, Monday, May 9, 2005.

This extension is in accordance with section 751(a)(3)(A) of the Act and 19 CFR 351.213(h)(2).

Dated: March 8, 2005.
Barbara E. Tillman,
Acting Deputy Assistant Secretary for Import Administration.

[FR Doc. E5-1066 Filed 3-11-05; 8:45 am]

BILLING CODE 3510-DS-P